DEPARTMENT OF JUSTICE

Antitrust Division

Notice Pursuant to the National Cooperative Research and Production Act of 1993—Utility Broadband Alliance

Notice is hereby given that, on May 4, 2021, pursuant to Section 6(a) of the National Cooperative Research and Production Act of 1993, 15 U.S.C. 4301 et seq. (“the Act”), Utility Broadband Alliance (“UBBA”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: 4RF USA, Denver, CO; ADB Companies, Pacific, MO; Aetheros Inc., San Francisco, CA; Alpha Wireless, County Laois, IRELAND; Amdocs Management Ltd, London, UNITED KINGDOM; Ameren Services, St. Louis, MO; Anterix, Woodland Park, NJ; ATT Business, Dallas, TX; BEC Technologies, Richardson, TX; Blinq Network, Markham, CANADA; Bridgewater Group Consulting, Irvine, CA; Burns and McDonnell, Kansas City, MO; Cisco, San Jose, CA; Council Rock, Rochester, NY; CrescoNet, San Francisco, CA; Encore Networks, Chantilly, VA; Ericsson, Plano, TX; Evergy, Kansas City, MO; GE Industrial Communications, Rochester, NY; Hitachi-ABB, Raleigh, NC; JEA, Jacksonville, FL; K and A Engineering, White Plains, NY; L3 Harris, Rochester, NY; Mimomax Wireless, Christchurch, NEW ZEALAND; Motorola Solutions, Chicago, IL; Multi Tech Systems, Mounds View, MN; Nokia, Coppell, TX; NovaTech, Lenexa, KS; National Rural Telecommunications Cooperative, Herndon, VA; NY Power Authority (NYPA), White Plains, NY; Palmetto Technology Associates, Kiawah Island, SC; Puloli, Inc., San Francisco, CA; Southern California Edison, Rosemead, CA; SouthernLinc, Atlanta, GA; Telit Wireless Solutions, Durham, NC; World Wide Technology, Maryland Heights, MO; and Xcel Energy, Minneapolis, MN.

UBBA was formed as a Delaware non-stock member corporation. The general area of UBBA's planned activity is to empower utilities and ecosystem partners to champion the development of utility broad-band networks as a key enabler of the utility of the future, and to undertake such other activities as may from time to time be appropriate to further the purposes and achieve the goals set forth above.

Membership in UBBA remains open and UBBA intends to file additional written notifications disclosing all changes in membership.

Suzanne Morris,
Chief, Premerger and Division Statistics, Antitrust Division.

[FR Doc. 2021-12180 Filed 6-9-21; 8:45 am]

BILLING CODE 4410-11-P